DEPARTMENT OF TRANSPORTATION

Pipeline and Hazardous Materials Safety Administration

[Docket Nos. PHMSA-2016-0004 Tennessee Gas Pipeline Company, L.L.C. (TGP); PHMSA-2016-0006 Southern Natural Gas Company, L.L.C. (SNG); PHMSA-2016-0007 El Paso Natural Gas Company, L.L.C. (EPNG); PHMSA-2016-0008 Colorado Interstate Gas Company, L.L.C. (CIG); PHMSA-2016-0009 NEXUS Gas Transmission, L.L.C. (NEXUS)]

Pipeline Safety: Request for Special Permit

AGENCY: Pipeline and Hazardous Materials Safety Administration (PHMSA); DOT.

ACTION: Notice.

SUMMARY: Pursuant to the Federal pipeline safety laws, PHMSA is publishing this notice of special permit requests we have received from several natural gas pipeline operators, seeking relief from compliance with certain requirements in the Federal pipeline safety regulations. This notice seeks public comments on these requests, including comments on any safety or environmental impacts. At the conclusion of the 30-day comment period, PHMSA will evaluate the requests and determine whether to grant or deny a special permit.

DATES: Submit any comments regarding these special permit requests by March 24, 2016.

ADDRESSES: Comments should reference the docket numbers for the specific special permit request and may be submitted in the following ways:

• E-Gov Web site: http://www.Regulations.gov. This site allows the public to enter comments on any Federal Register notice issued by any agency.

• Fax: 1-202-493-2251.

• Mail: Docket Management System: U.S. Department of Transportation, Docket Operations, M-30, West Building Ground Floor, Room W12-140, 1200 New Jersey Avenue SE., Washington, DC 20590.

• Hand Delivery: DOT Docket Management System: U.S. Department of Transportation, Docket Operations, M-30, West Building Ground Floor, Room W12-140, 1200 New Jersey Avenue SE., Washington, DC 20590 between 9:00 a.m. and 5:00 p.m., Monday through Friday, except Federal holidays.

Instructions: You should identify the docket number for the special permit request you are commenting on at the beginning of your comments. If you submit your comments by mail, please submit two copies. To receive confirmation that PHMSA has received your comments, please include a self-addressed stamped postcard. Internet users may submit comments at http://www.Regulations.gov.

Note: Comments are posted without changes or edits to http://www.Regulations.gov, including any personal information provided. There is a privacy statement published on http://www.Regulations.gov.

FOR FURTHER INFORMATION CONTACT:

General: Kay McIver by telephone at (202) 366-0113; or, email at kay.mciver@dot.gov.

Technical: Steve Nanney by telephone at (713) 272-2855; or, email at steve.nanney@dot.gov.

SUPPLEMENTARY INFORMATION: PHMSA has received requests for special permits from pipeline operators who seek relief from compliance with certain pipeline safety regulations. Each request includes a technical analysis and a Draft Environment Assessment (EA) provided by the respective operator. Each request is filed in the Federal Docket Management System (FDMS) and has been assigned a separate docket number in the FDMS. We invite interested persons to participate by reviewing these special permit requests, their supporting EA, and any proposed special permit conditions to maintain pipeline integrity and safety, at http://www.Regulations.gov; and by submitting written comments, data or other views. Please include any comments on potential safety or environmental impacts that may result if these special permits are granted.

Before acting on these special permit requests, PHMSA will evaluate all comments received on or before the comments closing date. Comments will be evaluated after this date if it is possible to do so without incurring additional expense or delay. PHMSA will consider each relevant comment we receive in making our decision to grant or deny the request.

PHMSA has received the following special permit request(s):

Docket No. | Requester | Regulation(s) | Nature of special permit
PHMSA-2016-0004 | Tennessee Gas Pipeline Company, L.L.C. (TGP) | 49 CFR 192.611(a) and (d), 192.619(a) and 192.5 | To authorize TGP Company relief from certain Federal regulations found in 49 CFR 192.611(a) and (d), 192.619(a) and 192.5, for pipeline segments where the class location of the segments had been changed in accordance with § 192.5(c) “cluster rule”.
|  |  | TGP found that their procedure methodology for the determination of class location boundaries using the clustering and sliding mile criteria in 49 CFR 192.5(c) was incorrect and has updated operating procedures for usage of this cluster rule, and the sliding mile for confirmation of maximum allowable operating pressure (MAOP). The change in clustering methodology resulted in a number of new class location units, and more specifically Class 3 locations, for which pressure testing or pipe replacements are now required.
|  |  | TGP proposes to replace all pipeline segments that are in areas with over 10 dwellings for human occupancy within 5 years, and to implement enhanced integrity management (IM) activities over all described pipeline segments. These proposed IM activities can be reviewed on docket # PHMSA-2016-0004 at http://www.Regulations.gov.
|  |  | This change impacts 48.02 miles of TGP mainline pipelines. The special permit request covers multiple TGP interstate pipeline segments located in the states of Kentucky, Louisiana, Mississippi, New Jersey, New York, Ohio, Pennsylvania, Tennessee, Texas and West Virginia.
PHMSA-2016-0006 | Southern Natural Gas, Company, L.L.C. (SNG) | 49 CFR 192.611(a) and (d), 192.619(a) and 192.5 | To authorize SNG Company relief from certain Federal regulations found in 49 CFR 192.611(a) and (d), 192.619(a) and 192.5, for pipeline segments where the class location of the segments had been changed in accordance with § 192.5(c) “cluster rule”.
|  |  | SNG found that their procedure methodology for the determination of class location boundaries using the clustering and sliding mile criteria in 49 CFR 192.5(c) was incorrect and has updated operating procedures for usage of this cluster rule, and the sliding mile for confirmation of maximum allowable operating pressure (MAOP). The change in clustering methodology resulted in a number of new class location units, and more specifically Class 3 locations, for which pressure testing or pipe replacements are now required.
|  |  | SNG proposes to replace all pipeline segments that are in areas with over 10 dwellings for human occupancy within 5 years, and to implement enhanced integrity management (IM) activities over all described pipeline segments. These proposed IM activities can be reviewed on docket # PHMSA-2016-0006 at http://www.Regulations.gov.
|  |  | This change impacts 5.75 miles of SNG mainline pipelines. The special permit request covers multiple SNG interstate pipeline segments located in the states of Alabama, Georgia, Louisiana and Mississippi.
PHMSA-2016-0007 | El Paso Natural Gas Company, L.L.C. (EPNG) | 49 CFR 192.611(a) and (d), 192.619(a) and 192.5 | To authorize EPNG Company relief from certain Federal regulations found in 49 CFR 192.611(a) and (d), 192.619(a) and 192.5, for pipeline segments where the class location of the segments had been changed in accordance with § 192.5(c) “cluster rule”.
|  |  | EPNG found that their procedure methodology for the determination of class location boundaries using the clustering and sliding mile criteria in 49 CFR 192.5(c) was incorrect and has updated operating procedures for usage of this cluster rule, and the sliding mile for confirmation of maximum allowable operating pressure (MAOP). The change in clustering methodology resulted in a number of new class location units, and more specifically Class 3 locations, for which pressure testing or pipe replacements are now required.
|  |  | EPNG proposes to replace all pipeline segments that are in areas with over 10 dwellings for human occupancy within 5 years, and to implement enhanced integrity management (IM) activities over all described pipeline segments. These proposed IM activities can be reviewed on docket # PHMSA-2016-0007 at http://www.Regulations.gov.
|  |  | This change impacts 7.25 miles of EPNG mainline pipelines. The special permit request covers multiple EPNG interstate pipeline segments located in the states of Arizona, New Mexico, and Texas.
PHMSA-2016-0008 | Colorado Interstate Gas Company, L.L.C. (CIG) | 49 CFR 192.611(a) and (d), 192.619(a) and 192.5 | To authorize CIG Company relief from certain Federal regulations found in 49 CFR 192.611(a) and (d), 192.619(a) and 192.5, for pipeline segments where the class location of the segments had been changed in accordance with § 192.5(c) “cluster rule”.
|  |  | CIG found that their procedure methodology for the determination of class location boundaries using the clustering and sliding mile criteria in 49 CFR 192.5(c) was incorrect and has updated operating procedures for usage of this cluster rule, and the sliding mile for confirmation of maximum allowable operating pressure (MAOP). The change in clustering methodology resulted in a number of new class location units, and more specifically Class 3 locations, for which pressure testing or pipe replacements are now required.
|  |  | CIG proposes to replace all pipeline segments that are in areas with over 10 dwellings for human occupancy within 5 years, and to implement enhanced integrity management (IM) activities over all described pipeline segments. These proposed IM activities can be reviewed on docket # PHMSA-2016-0008 at http://www.Regulations.gov.
|  |  | This change impacts 3.47 miles of CIG mainline pipelines. The special permit request covers multiple CIG interstate pipeline segments located in the states of Colorado and Wyoming.
PHMSA-2016-0009 | NEXUS Gas Transmission, L.L.C. (NEXUS) | 49 CFR 192.625 | To authorize NEXUS Gas Transmission, L.L.C., in the waiving of certain Federal odorization requirements found in 49 CFR 192.625, for its proposed pipeline system in Michigan.
|  |  | The proposed NEXUS system will consist of approximately 255 miles of new 36-inch pipeline, four (4) new compressor stations, and six (6) new meter stations with a design capacity of 1.5 billion cubic feet per day (Bcf/d). The construction and operation of the NEXUS Pipeline will be done by Spectra Energy Partners, L.P. (SEP), in partnership with DTE Energy Company.
|  |  | The NEXUS pipeline route primarily passes through Class 1 areas for the first 248 miles. However, approximately 55% (~4.0) miles of the last 7.3 miles leading up to the terminus of the NEXUS pipeline and the interconnect with DTE Gas Company, will pass through Class 3 areas. As a result of the Class 3 percentage, 49 CFR 192.625 requires odorization of the pipeline in the Class 3 areas of the last 7.3 miles of the NEXUS pipeline.
|  |  | NEXUS proposed to implement additional design, materials, construction, operations and maintenance requirements described in Sections 4.2 through 4.5, below, that would be specified conditions in their proposed special permit. These proposed conditions can be reviewed on docket # PHMSA-2016-0009 at http://www.Regulations.gov.

Authority: 49 U.S.C. 60118 (c)(1) and 49 CFR 1.97

Alan K. Mayberry,
Deputy Associate Administrator for Policy and Programs.

[FR Doc. 2016-03659 Filed 2-22-16; 8:45 am]

BILLING CODE 4910-60-P